OFFICE OF PERSONNEL MANAGEMENT

5 CFR Part 212

RIN 3206-AJ75

Competitive Service and Competitive Status

AGENCY: Office of Personnel Management.

ACTION: Proposed rule.

SUMMARY: The Office of Personnel Management (OPM) is proposing a plain language rewrite of its regulations on the definitions of competitive service and competitive status as part of a broader review of OPM's regulations. The purpose of the revision is to make these definitions consistent with law and civil service rules.

DATES: Comments must be received on or before September 29, 2003.

ADDRESSES: Send, deliver or fax comments to Ellen Tunstall, Deputy Associate Director for Talent and Capacity Policy, U.S. Office of Personnel Management, Room 6551, 1900 E Street, NW., Washington, DC 20415-9700; e-mail employ@opm.gov; fax: 202-606-2329.

FOR FURTHER INFORMATION CONTACT: Ms. Karen Jacobs on (202) 606-0960, by TDD on is (202) 418-3134, by fax on (202) 606-2329, or by e-mail at kkjacobs@opm.gov.

SUPPLEMENTARY INFORMATION: We are revising the format of Part 212 and eliminating subparts that merely restate the provisions of 5 U.S.C. 2102 and Civil Service Rules 1.2 and 1.3 of this chapter. The purpose of these revisions is not to make substantive changes but, rather, to make the definitions in this part consistent with the definitions found in statute and in the civil service rules of this chapter.

Regulatory Flexibility Act

I certify that these regulations will not have a significant economic impact on a substantial number of small entities (including small businesses, small organizational units, and small governmental jurisdictions) because the regulations apply only to appointment procedures for certain employees in Federal agencies.

E.O. 12866, Regulatory Review

This rule has been reviewed by the Office of Management and Budget in accordance with Executive Order 1866.

List of Subjects in 5 CFR Parts 212

Government employees.

Office of Personnel Management.
Kay Coles James,
Director.

Accordingly, OPM proposes to revise 5 CFR part 212 as follows:

PART 212—COMPETITIVE SERVICE AND COMPETITIVE STATUS

Sec.
212.101 Definitions.
212.102 Effect of competitive status on a position.

Authority: 5 U.S.C. 1302, 3301, 3302; E.O. 10577, 3 CFR, 1954-1958 Comp. p. 218.

§ 212.101 Definitions.

In this chapter:

Competitive service has the meaning given that term by section 2102 of title 5, United States Code, and sections 1.2 and 1.3 of this chapter.

Competitive status has the meaning given that term by section 1.3 of this chapter.

Competitive position has the meaning given that term by section 1.3 of this chapter.

§ 212.102 Effect of competitive status on a position.

An employee shall be considered as being in the competitive service when the employee meets the conditions established by section 1.3 of this chapter.

[FR Doc. 03-19470 Filed 7-30-03; 8:45 am]

BILLING CODE 6325-38-P